DEPARTMENT OF HEALTH AND HUMAN SERVICES

National Committee on Vital and Health Statistics: Meeting

Pursuant to the Federal Advisory Committee Act, the Department of Health and Human Services (HHS) announces the following advisory committee meeting.

Name: National Committee on Vital and Health Statistics (NCVHS), Full Committee Meeting.

Time and Date:

June 19, 2013 9:00 a.m.-3:15 p.m. e.s.t.

June 20, 2013 10:00 a.m.-12:15 p.m. e.s.t.

Place: Centers for Disease Control and Prevention, National Center for Health Statistics, 3311 Toledo Road, Auditorium B & C, Hyattsville, Maryland 20782, (301) 458-4524.

Status: Open.

Purpose: At this meeting the Committee will hear presentations and hold discussions on several health data policy topics. On the morning of the first day, the Committee will hear updates from the Department (HHS), the Centers for Medicare and Medicaid Services (CMS), the Office of the National Coordinator (ONC), the Office of Civil Rights (OCR), and the National Center for Health Statistics. The Committee will also review and discuss the letter and recommendations on attachments standards for healthcare initiated by the Standards Subcommittee.

After the lunch break, Subcommittee Co-chairs will brief the Committee on the hearing organized by the Population Health and Privacy Subcommittees to explore aspects of the Community as a Learning Health System. Members of the Population Health Subcommittee will brief the Committee about the Community Health Project Panel being organized for the 2013 APHA Annual Meeting, and NCHS staff will report on elements of convergence between electronic health records and vital records. Finally, the Subcommittee co-chairs will discuss convergence as it relates to concepts, priorities, opportunities and challenges.

On the morning of the second day, the Committee will discuss and vote on the attachments standards recommendation letter and hear a report on quality measures from the Quality Subcommittee Chair. Finally, a member of Academy Health's Health Data Consortium will present on their current activities and goals, and the Committee Chair will give final remarks and receive feedback from the membership regarding NCVHS strategic implementation. Once the full Committee adjourns, the NCVHS Working Group on HHS Data Access & Use will convene to discuss best practices and suggestions for release of open HHS data, and summarize future plans of the Working Group. Further information will be provided on the NCVHS Web site at http://www.ncvhs.hhs.gov/.

The times shown above are for the full Committee meeting. Subcommittee breakout sessions are scheduled for late in the afternoon on the first day. Agendas for these breakout sessions will be posted on the NCVHS Web site (URL below) when available.

Contact Person for More Information: Substantive program information may be obtained from Marjorie S. Greenberg, Executive Secretary, NCVHS, National Center for Health Statistics, Centers for Disease Control and Prevention, 3311 Toledo Road, Room 2402, Hyattsville, Maryland 20782, telephone (301) 458-4245. Summaries of meetings and a roster of committee members are available on the NCVHS home page of the HHS Web site: http://www.ncvhs.hhs.gov/, where further information including an agenda and a copy of the recommendation letter will be posted when available.

Should you require reasonable accommodation, please contact the CDC Office of Equal Employment Opportunity on (301) 458-4EEO (4336) as soon as possible.

Dated: May 29, 2013.
James Scanlon,
Deputy Assistant Secretary for Planning and Evaluation, Office of the Assistant Secretary for Planning and Evaluation.

[FR Doc. 2013-13479 Filed 6-5-13; 8:45 am]

BILLING CODE 4251-05-P